NATIONAL FOUNDATION ON THE ARTS AND THE HUMANITIES

Institute of Museum and Library Services

Submission for OMB Review, Comment Request, Proposed Collection: Museums for All Program Evaluation

AGENCY: Institute of Museum and Library Services, National Foundation on the Arts and the Humanities.

ACTION: Submission for OMB review, comment request.

SUMMARY: The Institute of Museum and Library Services announces that the following information collection will be submitted to the Office of Management and Budget (OMB) for review and approval in accordance with the Paperwork Reduction Act. This program helps to ensure that requested data can be provided in the desired format, reporting burden (time and financial resources) is minimized, collection instruments are clearly understood, and the impact of collection requirements on respondents can be properly assessed.

A copy of the proposed information collection request can be obtained by contacting the individual listed below in the ADDRESSES section of this notice.

DATES: Written comments must be submitted to the office listed in the FOR FURTHER INFORMATION CONTACT section below on or before November 20, 2017.

OMB is particularly interested in comments that help the agency to:

• Evaluate whether the proposed collection of information is necessary for the proper performance of the functions of the agency, including whether the information will have practical utility;

• Evaluate the accuracy of the agency's estimate of the burden of the proposed collection of information including the validity of the methodology and assumptions used;

• Enhance the quality, utility and clarity of the information to be collected; and

• Minimize the burden of the collection of information on those who are to respond, including through the use of appropriate automated electronic, mechanical, or other technological collection techniques or other forms of information technology, e.g. permitting electronic submissions of responses.

ADDRESSES: Sandra R. Webb, Ph.D., Senior Advisor, Institute of Museum and Library Services, 955 L'Enfant Plaza SW., Suite 4000, Washington, DC 20024. Dr. Webb can be reached by Telephone: 202-653-4718, Fax: 202-653-4608, or by email at swebb@imls.gov, or by teletype (TTY/TDD) at 202-653-4614.

SUPPLEMENTARY INFORMATION: The Institute of Museum and Library Services is the primary source of federal support for the Nation's 123,000 libraries and 35,000 museums. The Institute's mission is to inspire libraries and museums to advance innovation, learning, and civic engagement. The Institute works at the national level and in coordination with state and local organizations to sustain heritage, culture, and knowledge; enhance learning and innovation; and support professional development. IMLS is responsible for identifying national needs for and trends in museum, library, and information services; measuring and reporting on the impact and effectiveness of museum, library and information services throughout the United States, including programs conducted with funds made available by IMLS; identifying, and disseminating information on, the best practices of such programs; and developing plans to improve museum, library, and information services of the United States and strengthen national, State, local, regional, and international communications and cooperative networks (20 U.S.C. 72, 20 U.S.C. 9108).

The purpose of this collection is to assess institutional outcomes from participation in the Museums for All program. Museums for All is a voluntary program inviting museums to invite EBT card holders to receive reduced-price admission to their facilities.

A program summative evaluation will be conducted to measure participating institutions' understanding of the program's value, structural strengths and difficulties, partnership implications, financial implications, and community support and engagement. The evaluation is intended to provide insight for future changes and programmatic improvements for the Museums for All initiative. Methods will include online surveys and in-depth interviews.

Current Actions: This notice proposes clearance of the Museums for All Program Evaluation. The 60-day notice for the Museums for All Program Evaluation, was published in the Federal Register on January 18, 2017 (82 FR 5608). The agency has received no comments.

The institutional online survey, expected to require an average of 10 minutes to complete, will consist of 1-3 questions focused on the Museums for All program's implications for participating museums, allowing for a broad understanding of the program's institutional participants, their perceptions of the program, and potential future directions. In-depth interviews with 15-18 institutional survey participants, each projected to require 20 minutes to complete, will add depth and clarity of understanding to the online survey.

Agency: Institute of Museum and Library Services.

Title: Museum Assessment Program Evaluation.

OMB Number: To Be Determined.

Frequency: One-time collection anticipated.

Affected Public: The target population is museums that have chosen to participate in the Museums for All program.

Number of Respondents: 100 museum staff to respond to institutional survey; 18 museum staff to respond to institutional interview.

Estimated Average Burden per Response: The burden per respondent is estimated to be an average of 10 minutes for the museum survey, and 20 minutes for the in-depth interview.

Estimated Total Annual Burden: 26 hours.

Total Annualized capital/startup costs: n/a.

Total Annual costs: $561.00.

FOR FURTHER INFORMATION CONTACT: Comments should be sent to Office of Information and Regulatory Affairs, Attn.: OMB Desk Officer for Education, Office of Management and Budget, Room 10235, Washington, DC 20503, (202) 395-7316.

Dated: October 17, 2017.
Kim A. Miller,
Grants Management Specialist, Office of the Chief Financial Officer.

[FR Doc. 2017-22819 Filed 10-19-17; 8:45 am]

BILLING CODE 7036-01-P